DEPARTMENT OF THE INTERIOR

Bureau of Land Management

[LLIDT000000.L11200000.DD0000.241A.00]

Notice of Public Meetings, Twin Falls District Resource Advisory Council, Idaho

AGENCY: Bureau of Land Management, Interior.

ACTION: Notice of Public Meetings.

SUMMARY: In accordance with the Federal Land Policy and Management Act (FLPMA), the Federal Advisory Committee Act of 1972 (FACA), the U.S. Department of the Interior, Bureau of Land Management (BLM) Twin Falls District Resource Advisory Council (RAC) will meet as indicated below.

DATES: The Twin Falls District Resource Advisory Council meeting originally scheduled for January 8, 2014, has been re-scheduled to take place on January 16, 2014, at the Sawtooth Best Western Inn, 2653 South Lincoln Ave., Jerome, Idaho. The meeting will begin at 9:00 a.m. and end no later than 4:30 p.m. The public comment period will take place from 10:10 a.m. to 10:40 a.m.

FOR FURTHER INFORMATION CONTACT: Heather Tiel-Nelson, Twin Falls District, Idaho, 2536 Kimberly Road, Twin Falls, Idaho 83301, (208) 736-2352.

SUPPLEMENTARY INFORMATION: The 15-member RAC advises the Secretary of the Interior, through the Bureau of Land Management, on a variety of planning and management issues associated with public land management in Idaho. During the January 16th meeting, RAC subcommittee members will report to the full RAC with their recommendation for the Idaho and Southwest Montana Sub-regional Draft Environmental Impact Statement. There will also be a new member orientation for RAC members along with field manager reports, a budget outlook and wild horse issue update.

Additional topics may be added and will be included in local media announcements. More information is available at www.blm.gov/id/st/en/res/resource_advisory.3.html. RAC meetings are open to the public.

Dated: December 18, 2013.
Jenifer L. Arnold,
District Manager (Acting).

[FR Doc. 2013-31449 Filed 1-2-14; 8:45 am]

BILLING CODE 4310-GG-P